COMMODITY FUTURES TRADING COMMISSION

17 CFR Part 1

RIN 3038—AB64

Minimum Financial and Related Reporting Requirements for Futures Commission Merchants and Introducing Brokers; Correction

AGENCY: Commodity Futures Trading Commission.

ACTION: Final rule; correction.

SUMMARY: This document corrects typographical errors in a final rule that was published in the Federal Register on August 12, 2004. This document also corrects the inadvertent omission of technical corrections that were described in the preamble of the published document but which were not included in the amendatory language of the final rule.

DATES: Effective as of September 30, 2004.

FOR FURTHER INFORMATION CONTACT: Thelma Diaz, Special Counsel, at (202) 418-5137, Commodity Futures Trading Commission, Three Lafayette Centre, 1155 21st Street, NW., Washington, DC 20581. Electronic mail: tdiaz@cftc.gov.

SUPPLEMENTARY INFORMATION: In a document published in the Federal Register of August 12, 2004 (69 FR 49784), the Commodity Futures Trading Commission (“Commission”) announced amendments to Commission rules relating to the minimum financial and related reporting requirements for futures commission merchants and introducing brokers. As discussed in the preamble, at page 49791, footnote 36, the amendments included technical corrections to revise references to “1.17(a)(1)(ii)” to read “1.17(a)(1)(iii)” within Rules 1.10(j)(8) and 1.17(a)(2), in order to reflect prior Commission rulemaking that had redesignated Rule 1.17(a)(1)(ii). However, these technical corrections were inadvertently omitted from the amendatory language in the published document, and the amendatory language also contained typographical errors. This document corrects both the omission and the typographical errors in the published document.

In FR Doc. 04-18349, appearing at pages 49784 through 49800 in the Federal Register of Thursday, August 12, 2004, the following corrections are made:

PART 1—[Corrected]

1. On page 49795, in the second column, in amendatory instruction Number 2, beginning in the second line, the language that reads “(e), and (f)” is corrected to read “(e), (f), and (j)(8)(ii)(A)”.

§ 1.10 [Corrected]

2. On page 49795, in the third column, in § 1.10, in paragraph (c)(3), seventh line, the phrase “a registrant” in corrected to read “an applicant”.

3. On page 49797, in the first column, in § 1.10, in paragraph (f)(1)(ii)(B), in the last line of the paragraph, the phrase subparagraph (f)(1(ii) is corrected to read as “paragraph (f)(1)(ii)”.

4. On page 49797, in the first column, in § 1.10, after the five asterisks that follow paragraph (f)(2)(ii), and before amendatory instruction Number 3, the section is corrected by adding the following:

(j) * * *

(8) * * *

(ii)(A) Notwithstanding the provisions of paragraph (j)(8)(i) of this section or of § 1.17(a), an introducing broker that is a party to a guarantee agreement that has been terminated in accordance with the provisions of paragraph (j)(5)(ii) of this section shall not be deemed to be in violation of the minimum adjusted net capital requirement of § 1.17(a)(1)(iii) or (a)(2) for 30 days following such termination. Such an introducing broker must cease doing business as an introducing broker on or after the effective date of such termination, and may not resume doing business as an introducing broker unless and until it files a new agreement or either:

* * * * *

§ 1.16 [Corrected]

5. On page 49798, following the second column, in amendatory instruction Number 4, the section heading “§ 11.16 Qualifications and reports of accountants” is corrected to read as “§ 1.16 Qualifications and reports of accountants”.

6. On page 49799, in the first column, in amendatory instruction Number 5, the second line, the language that reads “paragraphs (a)(1)(i)(B) and (b)(4)” is corrected to read as “paragraph (a)(1)(i)(B), the first sentence of paragraph (a)(2)(ii), and paragraph (b)(4)”.

§ 1.17 [Corrected]

7. On page 49799, in the first column, in § 1.17, after the five asterisks that follow paragraph (a)(1)(i)(B)(2), and before paragraph (b), the section is corrected by adding the following:

(2) * * *

(ii) The minimum requirements of paragraph (a)(1)(iii) of this section shall not be applicable to an introducing broker which elects to meet the alternative adjusted net capital requirement for introducing brokers by operation pursuant to a guarantee agreement which meets the requirements set forth in § 1.10(j). * * *

* * * * *

Issued in Washington, DC, on September 13, 2004, by the Commission.
Jean A. Webb,
Secretary of the Commission.

[FR Doc. 04-21021 Filed 9-16-04; 8:45 am]

BILLING CODE 6351-01-M